DEPARTMENT OF STATE

[Public Notice 8761]

Shipping Coordinating Committee; Notice of Committee Meeting

The Shipping Coordinating Committee (SHC) will conduct an open meeting at 10:00 a.m. on Thursday, July 10th, 2014, in U.S. Coast Guard Headquarters, Room 5Y23-21, Washington, DC. The primary purpose of the meeting is to prepare for the first Session of the International Maritime Organization's (IMO) Subcommittee on Implementation of IMO Instruments to be held at the IMO Headquarters, United Kingdom on July 14-18, 2014.

The agenda items to be considered include:

• Decisions of other IMO bodies;

• Responsibilities of Governments and measures to encourage flag State compliance;

• Mandatory reports under International Convention for the Prevention of Pollution from Ships, 1973, as modified by the Protocol of 1978 (MARPOL 73/78);

• Casualty analysis and statistics;

• Harmonization of port State control activities;

• Port State Control (PSC) Guidelines on seafarers' hours of rest and PSC guidelines in relation to the Maritime Labour Convention, 2006;

• Development of guidelines on port State control under the 2004 Ballast Water Management (BWM) Convention;

• Comprehensive analysis of difficulties encountered in the implementation of IMO instruments;

• Review of the Survey Guidelines under the Harmonized System of Survey and Certification (HSSC) and the non-exhaustive list of obligations under instruments relevant to the IMO Instruments Implementation Code (III Code);

• Consideration of International Association of Classification Societies (IACS) unified interpretations;

• Measures to protect the safety of persons rescued at sea;

• Illegal unregulated and unreported (IUU) fishing and related matters;

• Review of general cargo ship safety;

• Any other business.

Members of the public may attend this meeting up to the seating capacity of the room. Upon request, members of the public may also participate via teleconference, up to the capacity of the teleconference phone line. The access number for this teleconference line will be posted online at http://www.uscg.mil/imo/msc/default.asp at least 5 working days in advance.

Physical access to the meeting, or participation via the teleconference line, requires that all attendees respond to the meeting coordinator not later than July 3rd, 2014, 7 working days prior to the meeting. The meeting coordinator, Mr. E.J. Terminella, may be contacted by email at Emanuel.J.TerminellaJr@uscg.mil or by phone at (202) 372-1239. Responses made after July 3rd, 2014 might result in not being able to participate in the meeting. Please note that due to security considerations, two valid, government issued photo identifications must be presented to gain entrance to the Coast Guard Headquarters building. The building is accessible by public transportation or taxi. Additional information regarding this and other IMO SHC public meetings may be found at: www.uscg.mil/imo. In case of severe weather or other emergency in the Washington, DC area, attendees should check with the Office of Personnel Management at http://www.opm.gov or (202) 606-1900 for the operating status of federal agencies. If federal agencies are closed, this meeting will not be rescheduled, but the Shipping Coordinating Committee will publish a separate Federal Register notice to announce an electronic docket to receive public comments.

Dated: May 30, 2014.
Marc Zlomek,
Executive Secretary, Shipping Coordinating Committee, Department of State.

[FR Doc. 2014-13358 Filed 6-6-14; 8:45 am]

BILLING CODE 4710-09-P